DEPARTMENT OF HOMELAND SECURITY

Coast Guard

[Docket No. USCG-2015-0007]

Cooperative Research and Development Agreement—Robotic Aircraft for Maritime Public Safety

AGENCY: Coast Guard, DHS.

ACTION: Notice of intent; request for comments.

SUMMARY: The Coast Guard announces its intent to enter into a cooperative research and development agreement (CRADA) with several companies to evaluate small unmanned aircraft systems (SUAS) and their airborne sensors, to determine their potential for use in a maritime environment by a first responder and DHS operational components. The Coast Guard will conduct flight testing and evaluation of SUAS under a wide variety of simulated but realistic and relevant real-world maritime operational scenarios, such as law enforcement, search and rescue, and maritime environmental response. While the Coast Guard is currently considering partnering with Aerovel Corporation, Aerovironment Inc., Aurora Flight Sciences, Lockheed Martin Corporation, and Mission Technology Systems LLC, it solicits public comment on the possible participation of other parties in the proposed CRADA, and the nature of that participation. The Coast Guard also invites other potential non-Federal participants, who have the interest and capability to bring similar contributions to this type of research, to consider submitting proposals for consideration in similar CRADAs.

DATES: Comments must be submitted to the online docket via http://www.regulations.gov, or reach the Docket Management Facility, on or before March 23, 2015.

Synopses of proposals regarding future CRADAs must reach the Coast Guard (see FOR FURTHER INFORMATION CONTACT) on or before March 23, 2015.

ADDRESSES: Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: If you have questions on this notice or wish to submit proposals for future CRADAs, contact Dr. Andrew Niccolai, Project Official, Aviation Branch, U.S. Coast Guard Research and Development Center, 1 Chelsea Street, New London, CT 06320, telephone 860-271-2670, email Andrew.M.Niccolai@uscg.mil. If you have questions on viewing or submitting material to the docket, call Cheryl Collins, Program Manager, Docket Operations, telephone 202-366-9826, toll free 1-800-647-5527.

SUPPLEMENTARY INFORMATION:

Public Participation and Request for Comments

We encourage you to submit comments and related material on this notice. All comments received will be posted, without change, to http://www.regulations.gov and will include any personal information you have provided.

Do not submit detailed proposals for future CRADAs to the Docket Management Facility. Instead, submit them directly to the Coast Guard (see FOR FURTHER INFORMATION CONTACT) .

Comments should be marked with docket number USCG-2015-0007 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with other types of agreements such as procurement contracts, grants, and cooperative agreements.

Under the proposed CRADA, the Coast Guard's Research and Development Center (R&DC) will collaborate with one or more non-Federal participants. Together, the R&DC and the non-Federal participants will evaluate SUAS and their airborne sensors to determine their potential for use in a maritime environment by a first responder and DHS operational components.

We anticipate that the Coast Guard's contributions under the proposed CRADA will include the following:

(1) Develop the demonstration test plan to be executed under the CRADA;

(2) Provide the SUAS test range, test range support, facilities, and all approvals required for a 5 day demonstration under the CRADA;

(3) Conduct the privacy threshold analysis required for the demonstration;

(4) Conduct the privacy impact assessment required for the demonstration;

(5) Coordinate any required spectrum approval for the SUAS;

(6) Coordinate and receive any required interim flight clearance for the demonstration;

(7) Provide any required airspace coordination and de-confliction for the demonstration test plan;

(8) Collect and analyze demonstration test plan data; and

(9) Develop a demonstration final report documenting the methodologies, findings, conclusions, and recommendations of this CRADA work.

We anticipate that the non-Federal participants' contributions under the proposed CRADA will include the following:

(1) Provide SUAS all other equipment to conduct the demonstration described in the demonstration test plan;

(2) Provide all required operators and technicians to conduct the demonstration;

(3) Provide technical data for the SUAS to be utilized;

(4) Provide shipment and delivery of all SUAS equipment required for the demonstration; and

(5) Provide travel and associated personnel and other expenses as required.

The Coast Guard reserves the right to select for CRADA participants all, some, or no proposals submitted for this CRADA. The Coast Guard will provide no funding for reimbursement of proposal development costs. Proposals and any other material submitted in response to this notice will not be returned. Proposals submitted are expected to be unclassified and have no more than five single-sided pages (excluding cover page, DD 1494, JF-12, etc.). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering Aerovel Corporation, Aerovironment Inc., Aurora Flight Sciences, Lockheed Martin Corporation, and Mission Technology Systems LLC for participation in this CRADA, because each has demonstrated the ability to operate SUAS in a maritime environment. However, we do not wish to exclude other viable participants from this or future similar CRADAs.

This is a technology demonstration effort. The goal of this CRADA is to identify and investigate the potential of the SUAS and their airborne sensors to determine their potential use in a maritime environment by the first responder and the DHS operational components. Special consideration will be given to small business firms/consortia, and preference will be given to business units located in the U.S.

This notice is issued under the authority of 5 U.S.C. 552(a) and 15 U.S.C. 3710(a).

Dated: January 26, 2015.
Dennis C. Evans,
Captain, USCG, Commanding Officer, U.S. Coast Guard Research and Development Center.

[FR Doc. 2015-03327 Filed 2-18-15; 8:45 am]

BILLING CODE 9110-04-P